DEPARTMENT OF THE INTERIOR

National Park Service

[NPS-WASO-NRNHL-17590; PPWOCRADI0, PCU00RP14.R50000]

National Register of Historic Places; Notification of Pending Nominations and Related Actions

Nominations for the following properties being considered for listing or related actions in the National Register were received by the National Park Service before January 24, 2015. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by March 2, 2015. Before including your address, phone number, email address, or other personal identifying information in your comment, you should be aware that your entire comment—including your personal identifying information—may be made publicly available at any time. While you can ask us in your comment to withhold your personal identifying information from public review, we cannot guarantee that we will be able to do so.

Dated: January 30, 2015.
James Gabbert,
Acting Chief, National Register of Historic Places/National Historic Landmarks Program.

COLORADO

Eagle County

Notch Mountain Shelter, Notch Mtn. Summit, White River NF, Minturn, 15000059

Tigiwon Community House, FSR 707, Holy Cross Dist., White River NF, Minturn, 15000060

DISTRICT OF COLUMBIA

District of Columbia

Walter Reed Army Medical Center (WRAMC) Historic District, 6900 Georgia Ave. NW., Washington, 15000061

FLORIDA

Orange County

Gary-Morgan House, 1041 Osceola Ave., Winter Park, 15000062

OKLAHOMA

Kay County

First Church of Christ, Scientist, 300 N. 3rd St., Ponca City, 15000063

St. John Baptist Church and Rectory, 1009 S. 11th St., Ponca City, 15000064

Pittsburg County

McAlester Downtown Historic District, Bounded by Business 69, E. Carl Albert Pkwy., N. 5th St. & RR tracks, McAlester, 15000065

Tulsa County

First National Bank, 123 E. W.C. Rogers Blvd., Skiatook, 15000066

Oklahoma Iron Works—Bethlehem Supply Company Building, 118 N. Lansing Ave., Tulsa, 15000067

[FR Doc. 2015-02995 Filed 2-12-15; 8:45 am]

BILLING CODE 4312-51-P